DEPARTMENT OF TRANSPORTATION

Federal Aviation Administration

14 CFR Part 39

[Docket No. FAA-2009-0465; Directorate Identifier 2007-NM-244-AD]

RIN 2120-AA64

Airworthiness Directives; Airbus Model A310-203, -204, -221, -222, -304, -322, -324, and -325 Airplanes

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

DGAC [Direction Générale de l'Aviation Civile] France issued AD F-2005-078 [which corresponds to FAA AD 2006-02-06] to require the modification (Airbus modification 13023), defined in Airbus SB [service bulletin] A310-53-2124, to increase the service life of junctions of center box upper frame bases to upper fuselage arches. This structural modification falls within the scope of the work related to the extension of the service life of A310 aircraft and widespread fatigue damage evaluations.

The threshold timescales for accomplishment of the tasks as defined in SB A310-53-2124 were refined and reduced. * * *

* * * * *

The unsafe condition is fatigue cracking of the frame foot run-outs, which could lead to rupture of the frame foot and cracking in adjacent frames and skin, and which could result in reduced structural integrity of the fuselage. The proposed AD would require actions that are intended to address the unsafe condition described in the MCAI.

DATES: We must receive comments on this proposed AD by July 2, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Stafford, Aerospace Engineer, International Branch, ANM-116, Transport Airplane Directorate, FAA, 1601 Lind Avenue, SW., Renton, Washington 98055-4056; telephone (425) 227-1622; fax (425) 227-1149.

SUPPLEMENTARY INFORMATION:

Comments Invited

We invite you to send any written relevant data, views, or arguments about this proposed AD. Send your comments to an address listed under the ADDRESSES section. Include “Docket No. FAA-2009-0465; Directorate Identifier 2007-NM-244-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2008-0212, dated December 4, 2008 (referred to after this as “the MCAI”), to correct an unsafe condition for the specified products. The MCAI states:

DGAC [Direction Générale de l'Aviation Civile] France issued AD F-2005-078 [which corresponds to FAA AD 2006-02-06, Amendment 39-14458, 71 FR 3214, January 20, 2006] to require the modification (Airbus modification 13023), defined in Airbus SB [service bulletin] A310-53-2124, to increase the service life of junctions of center box upper frame bases to upper fuselage arches. This structural modification falls within the scope of the work related to the extension of the service life of A310 aircraft and widespread fatigue damage evaluations.

The threshold timescales for accomplishment of the tasks as defined in SB A310-53-2124 were refined and reduced. Consequently, EASA issued AD 2007-0238 to require compliance with Revision 1 of SB A310-53-2124 at the reduced compliance times, superseding (the requirements of) DGAC France AD F-2005-078. Subsequently, Airbus identified reference material that was erroneously introduced into Airbus SB A310-53-2124 Revision 1. As a result, the SB instructions could not be accomplished properly. Operators that tried to apply SB A310-53-2124 at Revision 1 had to contact Airbus; see also Airbus SBIT [service bulletin information telex] ref. 914.0135/08, dated 03 March 2008.

Consequently, AD 2007-0238 was revised to exclude reference to Airbus SB A310-53-2124 Revision 1 and to require accomplishment of the task(s) as described in the original SB A310-53-2124 instead, although retaining the reduced compliance times introduced by AD 2007-0238 at original issue. This new [EASA] AD is published to refer to Airbus SB A310-53-2124 Revision 02, the corrected version that is to be used to meet the requirements of this AD.

The unsafe condition is fatigue cracking of the frame foot run-outs, which could lead to rupture of the frame foot and cracking in adjacent frames and skin, and which could result in reduced structural integrity of the fuselage. You may obtain further information by examining the MCAI in the AD docket.

Relevant Service Information

Airbus has issued Mandatory Service Bulletin A310-53-2124, Revision 02, dated May 22, 2008. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in Note within the proposed AD.

Costs of Compliance

Based on the service information, we estimate that this proposed AD would affect about 68 products of U.S. registry. We also estimate that it would take about 41 work-hours per product to comply with the basic requirements of this proposed AD. The average labor rate is $80 per work-hour. Required parts would cost about $4,400 per product. Where the service information lists required parts costs that are covered under warranty, we have assumed that there will be no charge for these costs. As we do not control warranty coverage for affected parties, some parties may incur costs higher than estimated here. Based on these figures, we estimate the cost of the proposed AD on U.S. operators to be $522,240, or $7,680 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14458 (71 FR 3214, January 20, 2006) and adding the following new AD:

Airbus: Docket No. FAA-2009-0465; Directorate Identifier 2007-NM-244-AD.

Comments Due Date

(a) We must receive comments by July 2, 2009.

Affected ADs

(b) The proposed AD supersedes AD 2006-02-06, Amendment 39-14458.

Applicability

(c) This AD applies to Airbus Models A310-203, -204, -221, -222, -304, -322, -324 and -325 airplanes; all serial numbers; certificated in any category; except those airplanes on which Airbus Mandatory Service Bulletin A310-53-2124, dated April 4, 2005, has been accomplished, or Airbus Modification 13023 has been accomplished in production.

Subject

(d) Air Transport Association (ATA) of America Code 53: Fuselage.

Reason

(e) The mandatory continuing airworthiness information (MCAI) states:

DGAC [Direction Générale de l'Aviation Civile] France issued AD F-2005-078 [which corresponds to FAA AD 2006-02-06, Amendment 39-14458, 71 FR 3214, January 20, 2006] to require the modification (Airbus modification 13023), defined in Airbus SB [service bulletin] A310-53-2124, to increase the service life of junctions of center box upper frame bases to upper fuselage arches. This structural modification falls within the scope of the work related to the extension of the service life of A310 aircraft and widespread fatigue damage evaluations.

The threshold timescales for accomplishment of the tasks as defined in SB A310-53-2124 were refined and reduced. Consequently, EASA issued AD 2007-0238 to require compliance with Revision 1 of SB A310-53-2124 at the reduced compliance times, superseding (the requirements of) DGAC France AD F-2005-078. Subsequently, Airbus identified reference material that was erroneously introduced into Airbus SB A310-53-2124 Revision 1. As a result, the SB instructions could not be accomplished properly. Operators that tried to apply SB A310-53-2124 at Revision 1 had to contact Airbus; see also Airbus SBIT [service bulletin information telex] ref. 914.0135/08, dated 03 March 2008.

Consequently, AD 2007-0238 was revised to exclude reference to Airbus SB A310-53-2124 Revision 1 and to require accomplishment of the task(s) as described in the original SB A310-53-2124 instead, although retaining the reduced compliance times introduced by AD 2007-0238 at original issue. This new [EASA] AD is published to refer to Airbus SB A310-53-2124 Revision 02, the corrected version that is to be used to meet the requirements of this AD.

The unsafe condition is fatigue cracking of the frame foot run-outs, which could lead to rupture of the frame foot and cracking in adjacent frames and skin, and which could result in reduced structural integrity of the fuselage.

New Requirements of This AD: Actions and Compliance

(f) Unless already done, do the following actions.

(1) Except for airplanes identified in paragraph (f)(2) of this AD, at the later of the times specified in paragraphs (f)(1)(i) and (f)(1)(ii) of this AD, accomplish inspections by rotating probe for cracking of holes H1 through H29 on FR 43 through 46 inclusive, and inspections of holes H1 through H29 on FR 43 through 46 inclusive to determine the edge distance of the hole, in accordance with the Accomplishment Instructions of Airbus Mandatory Service Bulletin A310-53-2124, Revision 02, dated May 22, 2008 (“the service bulletin”). If no cracking is found and the edge distance is equal to or greater than the distance specified in the Accomplishment Instructions of the service bulletin, before further flight, do the cold expansion of the most fatigue sensitive fastener holes, as identified in the service bulletin.

(i) Inspect at the applicable time indicated in Table 1 of this AD. Airbus Model A310-304, -322, -324, and -325 airplanes with an average flight time (AFT) equal to or less than 3.17 flight hours are short range airplanes. Airbus Model A310-304, -322, -324, and -325 with an AFT exceeding 3.17 flight hours are long range airplanes.

(ii) Within 500 flight cycles or 800 flight hours after the effective date of this AD, whichever occurs first.

Table 1—Compliance Times
Affected airplanes | Inspection modification threshold, whichever occurs later
Model A310-304, -322, -324 and -325 short range airplanes | Prior to accumulation of 26,500 flight cycles or 74,300 flight hours since first flight of the airplane, whichever occurs first | Within 3,000 flight cycles after the effective date of this AD, without exceeding 29,200 flight cycles or 81,800 flight hours since first flight, whichever occurs first.
Model A310-304, -322, -324 and -325 long range airplanes | Prior to accumulation of 23,400 flight cycles or 117,100 flight hours since first flight of the airplane, whichever occurs first | Within 3,000 flight cycles after the effective date of this AD, without exceeding 25,800 flight cycles or 129,000 flight hours since first flight, whichever occurs first.
Model A310-203, -204, -221, and A310-222 | Prior to accumulation of 23,400 flight cycles or 46,800 flight hours since first flight of the airplane, whichever occurs first | Within 3,000 flight cycles after the effective date of this AD, without exceeding 28,800 flight cycles or 57,700 flight hours since first flight, whichever occurs first.

Note 1: To establish the average flight time, take the accumulated flight time (counted from the take-off up to the landing) and divide by the number of accumulated flight cycles. This gives the average flight time per flight cycle.

(2) For airplanes that have been modified before the effective date of this AD in accordance with Airbus Mandatory Service Bulletin A310-53-2124, Revision 01, dated May 3, 2007: Within 500 flight cycles or 800 flight hours after the effective date of this AD, whichever occurs first, contact Airbus and follow their corrective actions.

(3) If, during any inspection required by paragraph (f)(1) of this AD, any cracking is found or if the edge distance is less than the distance specified in Airbus Mandatory Service Bulletin A310-53-2124, Revision 02, dated May 22, 2008, before further flight, contact Airbus and follow their corrective actions.

FAA AD Differences

Note 2: This AD differs from the MCAI and/or service information as follows: No differences.

Other FAA AD Provisions

(g) The following provisions also apply to this AD:

(1) Alternative Methods of Compliance (AMOCs): The Manager, International Branch, Transport Airplane Directorate, FAA, has the authority to approve AMOCs for this AD, if requested using the procedures found in 14 CFR 39.19. Send information to ATTN: Tom Stafford, Aerospace Engineer, International Branch, ANM-116, Transport Airplane Directorate, FAA, 1601 Lind Avenue, SW., Renton, Washington 98055-4056; telephone (425) 227-1622; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Union Airworthiness Directive 2008-0212, dated December 4, 2008; and Airbus Mandatory Service Bulletin A310-53-2124, Revision 02, dated May 22, 2008; for related information.

Issued in Renton, Washington, on May 15, 2009.
Ali Bahrami,
Manager, Transport Airplane Directorate, Aircraft Certification Service.

[FR Doc. E9-12740 Filed 6-1-09; 8:45 am]

BILLING CODE 4910-13-P